ENVIRONMENTAL PROTECTION AGENCY

[FRL-7389-5]

Agency Information Collection Activities: Submission for OMB Review; Comment Request, NSPS Bulk Gasoline Terminals

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Title: OMB Control Number 2060-0006, expiration date 09/30/2002. The ICR describes the nature of the information collection and its expected burden and cost; where appropriate, it includes the actual data collection instrument.

DATES: Comments must be submitted on or before November 1, 2002.

ADDRESSES: Send comments, referencing EPA ICR No. 0664.07 and OMB Control No. 2060-0006, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-mail at auby.susan@epa.gov or download off the Internet at http://www.epa.gov/icr and refer to EPA ICR No. 0664.07. For technical questions about the ICR contact Julie Tankersley at (202) 564-7002 or by e-mail at tankersley.julie@epa.gov.

SUPPLEMENTARY INFORMATION: Title: NSPS Subpart XX for Bulk Gasoline terminals, OMB Control Number 2060-0006, EPA ICR Number 0664.07, expiration date 09/30/2002. This is a request for extension of a currently approved collection.

Abstract: The Agency has judged that volatile organic chemical emissions from bulk gasoline terminals cause or contribute to air pollution that may reasonably be anticipated to endanger public health or welfare. Owners or operators of bulk gasoline terminals must make the following one-time-only reports: notification of the date of construction or reconstruction; notification of the anticipated and actual dates of startup; notification of any physical or operational change to an existing facility which may increase the regulated pollutant emission rate; notification of the date of the initial performance test, and the results of the initial performance test. Owners or operators are also required to maintain records of the occurrence and duration of any startup, shutdown, or malfunction in the operation of an affected facility. Monitoring requirements specific to bulk gasoline terminals consist mainly of identifying and documenting vapor tightness for each gasoline tank truck that is loaded at the affected facility, and notifying the owner or operator of each tank truck that is not vapor tight. The owner or operator must also perform a monthly visual inspection for liquid or vapor leaks. An agency may not conduct or sponsor, and a person is not required to respond to, a collection of information unless it displays a currently valid OMB control number. The OMB control numbers for EPA's regulations are listed in 40 CFR part 9 and 48 CFR chapter 15.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on October 29, 2001 (66 FR 54514); no comments were received.

Burden Statement: The annual public reporting and recordkeeping burden for this collection of information is estimated to average 286 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and operators of bulk gasoline terminals.

Estimated Number of Respondents: 40.

Frequency of Response: One time only.

Estimated Total Annual Hour Burden: 11,420.

Estimated Total Annualized Capital, O&M Cost Burden: 0.

Send comments on the Agency's need for this information, the accuracy of the provided burden estimates, and any suggested methods for minimizing respondent burden, including through the use of automated collection techniques to the addresses listed above. Please refer to EPA ICR No. 0664.07 and OMB Control No. 2060-0006 in any correspondence.

Dated: September 28, 2002.
Oscar Morales,
Director, Collection Strategies Division.

[FR Doc. 02-25043 Filed 10-1-02; 8:45 am]

BILLING CODE 6560-50-P